DEPARTMENT OF STATE

[Public Notice: 10739]

Exercise of Authority Under Section 212(d)(3(B)(i) of the Immigration and Nationality Act; Notice of Determination

Following consultations with the Secretary of Homeland Security and the Attorney General, the Secretary of State hereby concludes, as a matter of discretion in accordance with the authority granted by section 212(d)(3)(B)(i) of the Immigration and Nationality Act (INA), 8 U.S.C. 1182(d)(3)(B)(i), as amended, and considering the national security and foreign policy interests deemed relevant in these consultations, that INA section 212(a)(3)(B)(i), 8 U.S.C.1182(a)(3)(B)(i), excluding subclause (i)(II), shall not apply with respect to an alien, for purposes of any visa or other immigration-related application, for any activity or association relating to the Kataeb militias, provided that the alien satisfies the relevant agency authority that the alien:

(a) Is seeking a benefit or protection under the INA and has been determined to be otherwise eligible for the benefit or protection;

(b) Has undergone and passed all relevant background and security checks;

(c) Has fully disclosed, to the best of his or her knowledge, in all relevant applications and interviews with U.S. government representatives and agents, the nature and circumstances of all activities or associations falling within the scope of INA section 212(a)(3)(B)(i), 8 U.S.C. 1182(a)(3)(B)(i);

(d) Has not participated in, or knowingly provided material support to, terrorist activities that targeted noncombatant persons, or U.S. interests;

(e) Has not engaged in terrorist activity, not otherwise exempted, outside the context of the Lebanese civil war of 1975-1990;

(f) Poses no danger to the safety and security of the United States; and

(g) Warrants an exemption from the relevant inadmissibility provisions in the totality of the circumstances.

Implementation of this determination will be made by U.S. Citizenship and Immigration Services (USCIS) or by U.S. consular officers, as applicable, who shall ascertain, to their satisfaction, and in their discretion, that the particular applicant meets each of the criteria set forth above. The exercise of authority described herein may be revoked at any time as a matter of discretion and without notice. Any determination made under this exercise of authority as set out above can inform but shall not control a decision regarding any subsequent benefit or protection application, unless such exercise of authority has been revoked.

This exercise of authority shall not be construed to prejudice, in any way, the ability of the U.S. government to commence subsequent criminal or civil proceedings in accordance with U.S. law involving any beneficiary of this exercise of authority or any other person. This exercise of authority is not intended to create any substantive or procedural right or benefit that is legally enforceable by any party against the United States or its agencies or officers or any other person.

In accordance with section 212(d)(3)(B)(ii) of the INA, 8 U.S.C. 1182(d)(3)(B)(ii), a report on the aliens to whom this exercise of authority is applied, on the basis of case-by-case decisions by the U.S. Department of Department of State or by the U.S. Department of Homeland Security, shall be provided to the specified congressional committees not later than 90 days after the end of the fiscal year.

The foregoing determination is based on assessments related to the national security and foreign policy interests of the United States as they apply to the particular category of persons described herein and shall not have any application with respect to any other persons or to other provisions of U.S. law.

Dated: April 19, 2019.
Michael R. Pompeo,
Secretary of State.

[FR Doc. 2019-08568 Filed 4-26-19; 8:45 am]

BILLING CODE 4710-06-P